COMMISSION ON CIVIL RIGHTS

Notice of Public Meetings of the Louisiana Advisory Committee to the U.S. Commission on Civil Rights

AGENCY: U.S. Commission on Civil Rights.

ACTION: Notice of public meetings.

SUMMARY: Notice is hereby given, pursuant to the provisions of the rules and regulations of the U.S. Commission on Civil Rights (Commission) and the Federal Advisory Committee Act that the Louisiana Advisory Committee (Committee) to the U.S. Commission on Civil Rights will hold monthly business meetings on the following Tuesdays: August 15, September 19, October 17 and November 21, 2023; at 2:00 p.m. Eastern Time. The purpose of each meeting is to select a topic for the Committee's civil rights project and prepare/submit the project proposal to the Staff Director for approval. The time set aside for each meeting is 90 minutes, but each meeting may end sooner. Votes will be taken at each meeting, as needed.

DATES: Tuesdays: 8/15, 9/19, 10/17 and 11/21, 2023; 2:00 p.m. ET.

ADDRESSES: The meeting will be held via Zoom.

Meeting Link (Audio/Visual): https://www.zoomgov.com/j/1608085620

Join by Phone (Audio Only): 1-833 435 1820; Meeting ID: 160 808 5620#

FOR FURTHER INFORMATION CONTACT: Ivy Davis, Designated Federal Official at idavis@usccr.gov or (312) 353-8311.

SUPPLEMENTARY INFORMATION: These Committee meetings are available to the public through the meeting link above. Any interested member of the public may listen to the meetings. An open comment period will be provided to allow members of the public to make statements as time allows. Per the Federal Advisory Committee Act, public minutes of the meetings will include a list of persons who are present at the meetings. If joining via phone, callers can expect to incur regular charges for calls they initiate over wireless lines, according to their wireless plan. The Commission will not refund any incurred charges. Callers will incur no charge for calls they initiate over land-line connections to the toll-free telephone number. Closed captioning is available by selecting “CC” for the meeting platform. To requesting additional accommodations, please email csanders@usccr.gov at least 10 business days prior to the meeting.

Members of the public are entitled to submit written comments; the comments must be received in the regional office within 30 days following the meetings. Written comments may be emailed to Ivy Davis at idavis@usccr.gov. Persons who desire additional information may contact the Regional Programs Coordination Unit at ero@usccr.gov.

Records generated from these meetings may be inspected and reproduced at the Regional Programs Coordination Unit Office, as they become available, both before and after the meetings. Records of the meetings will be available via www.facadatabase.gov under the Commission on Civil Rights, Colorado Advisory Committee link. Persons interested in the work of this Committee are directed to the Commission's website, http://www.usccr.gov, or may contact the Regional Programs Coordination Unit at csanders@usccr.gov.

Agenda

I. Welcome and Roll Call

II. Discussions to select the topic for Committee's civil rights project; once selected, to prepare/submit project proposal to Staff Director for approval.

III. Other Business

IV. Next Public Meeting

V. Public Comments

VI. Adjourn

Dated: August 1, 2023.
David Mussatt,
Supervisory Chief, Regional Programs Unit.

[FR Doc. 2023-16721 Filed 8-4-23; 8:45 am]

BILLING CODE P